FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

A A Shipping Incorporated (NVO), 11526 Harwin Drive, Houston, TX 77072, Officers: Barbara C. Mozie, President, (Qualifying Individual), Geraldine Ononiba, Vice President, Application Type: New NVO.

Cargo Partner Network, Inc. (NVO & OFF), One Cross Island Plaza, Suite 203, Rosedale, NY 11422, Officers: Fergal Keenan, President, (Qualifying Individual), Stefan Krauter, Owner, Application Type: Add OFF Service.

Cargo Tours International, Inc. dba CTI Global Logistics (NVO & OFF), 167-10 South Conduit Avenue, Suite 106, Jamaica, NY 11434, Officer: Giuseppe D. Carpini, President/Treasurer/Secretary, (Qualifying Individual), Application Type: Trade Name Change/QI Change.

Deckwell Sky (USA) Inc. dba Monarch Container Line (NVO & OFF), 14343 E. Don Julian Road, City of Industry, CA 91746, Officer: ShuHsien aka Prescillia Chu, Pres./Treas./Sec./COO, (Qualifying Individual), Application Type: QI Change/Add OFF Service.

Eagle Van Lines, Inc. (NVO & OFF), 5041 Beech Place, Temple Hills, MD 20748, Officers: Christos Georgeakopoulos, Vice President, (Qualifying Individual), George Georgekopoulos, President, Application Type: Add NVO Service.

Expert Log LLC (NVO & OFF), 3563 NW 82nd Avenue, Miami, FL 33122, Officers: Denise Leinig, Member, (Qualifying Individual), Bruno Chaiben, Member, Application Type: New NVO & OFF License.

G Trading Group, Inc. dba Cargomax International (NVO & OFF), 10230 NW 80th Avenue, Hialeah Gardens, FL 33016, Officers: Abel Gonzalez, President/Treasurer, (Qualifying Individual), Ailyn Gonzalez, Vice President/Secretary, Application Type: New NVO & OFF License.

J.A. Logistics, Inc. (NVO & OFF), 3905 West Albany Street, McHenry, IL 60050, Officers: Arthur N. Nutig, Chief Operating Officer, (Qualifying Individual), Joseph M. Alger, President, Application Type: QI Change.

J K Moving & Storage, Inc. (NVO & OFF), 44112 Mercure Circle, Sterling, VA 20166, Officer: Charles S. Kuhn, President, (Qualifying Individual), Application Type: Add NVO Service.

Maxworld Logistics, Inc. (NVO & OFF), 133-33 Brookville Blvd. One Cross Island Plaza, #101, Rosedale, NY 11422, Officer: Hong Guo, President/Director/Secretary/Treasurer, (Qualifying Individual), Application Type: License Transfer.

NIT Logistics, Inc. (NVO), 241 Hudson Street, Hackensack, NJ 07601, Officers: Esra Tezer, Corporate Secretary, (Qualifying Individual), Zeki Sensoz, President/Treasurer, Application Type: New NVO License.

Purely Global, Inc (NVO & OFF), 9462 NW 13th Street, Bay 70, Doral, FL 33172, Officer: Gabriela M. Haddadi, Director/Corporate Secretary/President, (Qualifying Individual), Application Type: New NVO & OFF License.

Sifa USA, Inc. (NVO & OFF), 8600 N.W. 17th Street, Suite 145, Miami, FL 33126, Officers: Marcia F. Carlson, Operation & Logistics Coordinator, (Qualifying Individual), Patrice Marraud, Director/President, Application Type: New NVO & OFF License.

TBIF, LLC (NVO), 140 East Main Street, Suite G, Bozeman, MT 59715, Officers: Wayne J. Anderson, Vice President Operations, (Qualifying Individual), Gregg Cummings, President, Application Type: New NVO License.

UTi, United States, Inc. dba Unitainer dba UTi (NVO & OFF), 100 Oceangate, #1500, Long Beach, CA 90802, Officers: Christian Boettcher, Vice President, (Qualifying Individual), Christopher Dale, Director/President/CEO, Application Type: Trade Name Change/QI Change.

Dated: February 13, 2012.
Rachel E. Dickon,
Assistant Secretary.

[FR Doc. 2012-3723 Filed 2-16-12; 8:45 am]

BILLING CODE 6730-01-P